DEPARTMENT OF TRANSPORTATION

National Highway Traffic Safety Administration

[Docket No. NHTSA-2024-0067]

HOLON U.S. Inc.—Receipt of Petition for Temporary Exemption From Various Requirements of the Federal Motor Vehicle Safety Standards for an Automated Driving System-Equipped Vehicle

AGENCY: National Highway Traffic Safety Administration (NHTSA), Department of Transportation (DOT).

ACTION: Notice of receipt of petition for temporary exemption; request for public comment.

SUMMARY: HOLON and HOLON U.S. Inc have petitioned NHTSA for a temporary exemption from certain requirements in seven Federal motor vehicle safety standards (FMVSS) for its “automated electric bus,” which is a vehicle equipped with an Automated Driving System (ADS). Specifically, HOLON seeks exemption from portions of FMVSS No. 101, Controls and displays; FMVSS No. 102, Transmission shift position sequence, starter interlock, and transmission braking effect; FMVSS No. 104, Windshield wiping and washing systems; FMVSS No. 105, Windshield wiping and washing systems; FMVSS No. 108, Lamps, reflective devices, and associated equipment; FMVSS No. 111, Rear visibility; and FMVSS No. 208, Occupant crash protection. NHTSA is publishing this document in accordance with statutory and administrative provisions and seeks comment on the merits of HOLON's exemption petition and on potential terms and conditions that should be applied to a temporary exemption if granted. After receiving and considering public comments, NHTSA will assess the merits of the petition and will publish a notice in the Federal Register notice setting forth NHTSA's reasoning for either granting or denying the petition.

DATES: Comments must be received on or before January 7, 2025.

ADDRESSES: NHTSA invites you to submit comments on the petition described herein and the questions posed below. You may submit comments identified by docket number in the heading of this notice by any of the following methods:

• Fax: (202) 493-2251.

• Mail: U.S. Department of Transportation, Docket Operations, M-30, Room W12-140, 1200 New Jersey Avenue SE, Washington, DC 20590.

• Hand Delivery: 1200 New Jersey Avenue SE, West Building Ground Floor, Room W12-140, Washington, DC, between 9 a.m. and 5 p.m., Monday through Friday, except Federal Holidays.

• Federal eRulemaking Portal: Go to http://www.regulations.gov. Follow the online instructions for submitting comments.

• Instructions: All submissions must include the agency name and docket number. Note that all comments received will be posted without change to http://www.regulations.gov, including any personal information provided. Please see the Privacy Act discussion below. NHTSA will consider all comments received before the close of business on the comment closing date indicated above. To the extent possible, NHTSA will also consider comments filed after the closing date.

Docket: For access to the docket to read background documents or comments received, go to http://www.regulations.gov at any time or to 1200 New Jersey Avenue SE, West Building Ground Floor, Room W12-140, Washington, DC 20590, between 9 a.m. and 5 p.m., Monday through Friday, except Federal holidays. Telephone: (202) 366-9826.

Privacy Act: In accordance with 5 U.S.C. 553(c), DOT solicits comments from the public to better inform its rulemaking process. DOT posts these comments, without edit, to www.regulations.gov, as described in the system of records notice, DOT/ALL-14 FDMS, accessible through www.dot.gov/privacy. In order to facilitate comment tracking and response, we encourage commenters to provide their name, or the name of their organization; however, submission of names is completely optional. Whether or not commenters identify themselves, all timely comments will be fully considered. If you wish to provide comments containing proprietary or confidential information, please contact the agency for alternate submission instructions.

Confidential Business Information: If you wish to submit any information under a claim of confidentiality, you must submit your request directly to NHTSA's Office of the Chief Counsel. Requests for confidentiality are governed by part 512. NHTSA is currently treating electronic submission as an acceptable method for submitting confidential business information to the agency under part 512. If you would like to submit a request for confidential treatment, you may email your submission to Dan Rabinovitz in the Office of the Chief Counsel at Daniel.Rabinovitz@dot.gov or you may contact Dan for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, appendix A. In addition, you should submit a copy, from which you have deleted the claimed confidential business information, to the Docket at the address given above.

FOR FURTHER INFORMATION CONTACT: For legal issues: Sara R. Bennett, Office of the Chief Counsel, Telephone: (202) 366-2992; Fax: (202) 366-3820. For technical issues: Andrew Magaletti, Rulemaking Office of Automation Safety at Andrew.Magaletti@dot.gov, Telephone: (202) 366-2190; Fax: (202) 366-7002. Mailing address: National Highway Traffic Safety Administration, 1200 New Jersey Avenue SE, Washington, DC 20590.

SUPPLEMENTARY INFORMATION:

I. Introduction

II. Authority and Procedures for Temporary Exemption

III. HOLON's Petition

A. Overview of the HOLON Bus

B. Description of HOLON Petition

C. HOLON's Public Interest Argument

IV. Agency's Review of HOLON's Petition

V. Public Interest Considerations

VI. Statement on Terms

VII. Public Participation

I. Introduction

NHTSA is responsible for promulgating and enforcing Federal motor vehicle safety standards (FMVSS) designed to improve motor vehicle safety. Generally, a manufacturer may not manufacture for sale, sell, offer for sale, or introduce or deliver for introduction into interstate commerce a vehicle that does not comply with all applicable FMVSS.¹ There are limited exceptions to this general prohibition.² One path permits manufacturers to petition NHTSA for an exemption for noncompliant vehicles under a specified set of statutory bases.³ The details of these bases, and on which basis HOLON, described as an international company headquartered in Germany, and HOLON U.S. Inc., the U.S.-based subsidiary (hereinafter referred to collectively as “HOLON”), petitions, is provided in the sections of this notice that follow.

¹ 49 U.S.C. 30112(a)(1).

² 49 U.S.C. 30112(b); 49 U.S.C. 30113; 49 U.S.C. 30114.

³ 49 U.S.C. 30113.

On August 28, 2024, HOLON submitted a petition for exemption for its HOLON bus vehicle (HOLON Bus), which HOLON states is an SAE Level 4 Automated Driving System-Dedicated Vehicle (ADS-DV).⁴ Specifically, HOLON petitioned NHTSA for a temporary exemption from portions of seven FMVSS. HOLON requests a two-year exemption for not more than 2,500 exempted vehicles for each 12-month period covered by the exemption. HOLON does not specify how many vehicles it intends to produce under the exemption. Without this information, NHTSA may assume that HOLON intends to utilize the exemption for up to 2,500 vehicles. NHTSA requests comment on this assumption. The temporary exemption, if granted, will allow HOLON to manufacture for sale, sell, and deploy into interstate commerce vehicles that lack certain safety features required by the FMVSS.

⁴ Page 4 of the Petition

II. Authority and Procedures for Temporary Exemption

The National Traffic and Motor Vehicle Safety Act (Safety Act), codified at 49 U.S.C. chapter 301, authorizes the Secretary of Transportation to exempt motor vehicles, on a temporary basis and under specified circumstances, and on terms the Secretary considers appropriate, from a FMVSS or bumper standard. This authority is set forth at 49 U.S.C. 30113. The Secretary has delegated the authority for implementing this section to NHTSA.⁵

⁵ 49 CFR 1.95.

The Safety Act authorizes the Secretary to grant, in whole or in part, a temporary exemption to a vehicle manufacturer if the Secretary makes one of four specified findings.⁶ The Secretary must also look comprehensively at the request for exemption and find that the exemption is consistent with the public interest and with the objectives of the Safety Act.⁷

⁶ 49 U.S.C. 30113(b)(3).

⁷ 49 U.S.C. 30113(b)(3)(A).

The Secretary must evaluate the petition for exemption under at least one of the following bases:

(i) Compliance would cause substantial economic hardship, and the manufacturer tried to comply in good faith;

(ii) the exemption would make easier the development or field evaluation of a new motor vehicle safety feature, and the safety level is equal to the safety level of the standard;

(iii) the exemption would make the development or field evaluation of a low-emission motor vehicle easier, and the safety level of the vehicle is not unreasonably lowered; or

(iv) compliance would prevent the manufacturer from selling a motor vehicle with an overall safety level at least equal to the overall safety level of nonexempt vehicles.⁸

⁸ 49 U.S.C. 30113(b)(3)(B).

HOLON seeks temporary exemption under the basis that compliance with the seven FMVSS would prevent it from selling a motor vehicle with an overall safety level at least equal to the overall safety level of nonexempt (i.e., compliant) vehicles.⁹

⁹ 49 U.S.C. 30113(b)(3)(B)(iv).

NHTSA established 49 CFR part 555, Temporary Exemption from Motor Vehicle Safety and Bumper Standards, to implement the statutory provisions concerning temporary exemptions. The requirements in 49 CFR 555.5 state that the petitioner must set forth the basis of the petition and the information required under 49 CFR 555.6, and the reasons why the exemption would be in the public interest and consistent with the objectives of the Safety Act. A petition submitted on the basis that the applicant is otherwise unable to sell (or in this instance, manufacture) a vehicle whose overall level of safety or impact protection is at least equal to that of a nonexempt vehicle must include the information specified in 49 CFR 555.6(d).

III. HOLON's Petition

The following discussion provides: An overview of the HOLON Bus based on information submitted in HOLON's petition; a brief summary of HOLON's safety showing and arguments for exemption from portions of certain FMVSS; and a summary of the petitioner's arguments that granting its petition for exemption would be in the public interest. Additionally, HOLON implies, though does not state explicitly, that it does not intend to comply with the seven standards at the end of the exemption period.¹⁰ Specifically, HOLON states that it intends to work with industry stakeholders on rulemaking efforts during the exemption period. HOLON also states that if new rulemaking is not completed by NHTSA by the end of the requested period, HOLON will apply for an exemption renewal. Because HOLON has sought confidential treatment of some aspects of its petition, a redacted version of HOLON's petition is included in the docket referenced at the beginning of this notice. NHTSA notes that the descriptions in this section are extracted from HOLON's petition and do not necessarily reflect the views of NHTSA.

¹⁰ See 49 CFR 555.6(d)(3).

A. Overview of the HOLON Bus

HOLON describes the HOLON Bus as a purpose-built, highly automated, low-emission vehicle designed specifically for operation by an Automated Driving System rather than a human driver. It is not equipped with manually operated driving controls or features (e.g., steering wheel, pedals, manual turn signals, mirrors) that a human might need if manually driving the vehicle. It also is designed with “campfire” seating, meaning a front row of seats that faces backwards, a back row of seats that faces forwards, and a side row of seats that faces towards the doors on the right of the vehicle. It is classified as a bus with a total capacity of 15 passengers (9 seated, 6 standing) and a gross vehicle weight rating of 4,800 kilograms (10,582 lbs.). The HOLON Bus's SAE Level 4 ADS was collaboratively developed by HOLON and Mobileye. HOLON states that while the vehicle is designed to be operated by the ADS under normal operating conditions, it is equipped with limited manual controls should the need for human intervention arise. This limited manual mode is reserved for emergency purposes and is speed limited to approximately 6 kilometers per hour (3.7 miles per hour). HOLON's petition provides some basic information about the ADS and its sensors. For specific FMVSS, HOLON goes into greater detail about how it believes the ADS and the accompanying sensor suite fulfill those FMVSS requirements with which it does not comply and is seeking exemption.

At the time of the submission of HOLON's petition, the HOLON Bus had not yet started regular serial production. It its petition, HOLON provides multiple digital renderings of the interior and exterior of the vehicle.

B. Description of HOLON Petition

HOLON has petitioned NHTSA for a temporary exemption from certain requirements in seven FMVSS for its ADS-equipped vehicle, the HOLON Bus. Specifically, HOLON seeks exemption from portions of:

• FMVSS No. 101, “Controls and displays”

• FMVSS No. 102, “Transmission shift position sequence, starter interlock, and transmission braking effect”

• FMVSS No. 104, “Windshield wiping and washing systems”

• FMVSS No. 105, “Hydraulic and electric brake systems”

• FMVSS No. 108, “Lamps, reflective devices, and associated equipment”

• FMVSS No. 111, “Rear visibility,” and

• FMVSS No. 208, “Occupant crash protection”

In its petition for exemption, HOLON asserts that the requirements from which it seeks exemption generally assume the presence of a human driver to maintain visibility or to activate a manual control. Other requirements requiring exemption are related to the HOLON Bus's unconventional campfire seating configuration. HOLON states that the HOLON Bus and its ADS can meet all applicable elements of the FMVSS for which HOLON seeks exemption and that the overall safety in operating the bus will be maintained. A short description of the rationale HOLON provides for how its vehicle establishes an equivalent level of safety for each exemption sought and why it should receive an exemption follows. HOLON's petition includes additional detail and support for its arguments related to each FMVSS.

HOLON petitions for exemption from portions of six of NHTSA's crash avoidance FMVSS:

• FMVSS No. 101 establishes requirements for vehicle controls, telltales, and indicators. HOLON argues that the ADS is capable of receiving information through the Controller Area Network (CAN) bus, without visual indication, and can initiate controls without a physical means to do so. When operating the vehicle in limited manual mode, HOLON explains that the certified operator will be provided with the same level of information as they would gain through a visual telltale or indicator via the command center.

• If the transmission shift position sequence includes a park position, FMVSS No. 102 requires the identification of gear selection shift positions to be displayed in view of the driver, including the positions in relation to each other and the position selected, when certain conditions exist. HOLON states that the HOLON Bus's ADS can meet all shifting requirements of FMVSS No. 102. Additionally, HOLON states that in limited manual mode, HOLON provides a gear shift device to allow for the human operator to shift gears in a manner consistent with the safety objectives of the standard.

• For HOLON's petition for exemption from portions of FMVSS No. 104 (Windshield Wiping and Washing Systems), HOLON suggests that the purpose and intent of the safety standard is obviated by the vehicle's sensor system design. HOLON states that the HOLON Bus's ADS has a 360-degree view of roadway surroundings with a sensor cleaning system functionally equivalent to a windshield wiping system.

• Requirements in FMVSS No. 105 refer to foot- and hand-operated parking brake systems as well as brake system indicator lamps visible to the driver. HOLON states that the HOLON Bus's ADS activates the parking brake through electrical means and can function properly without a visual indicator or physical activation. When operating the vehicle in limited manual mode, HOLON explains that the certified operator can activate the parking brake and will be provided with information about the vehicle's braking system status through the command center.

• Portions of FMVSS No. 108 contain requirements related to manual controls for use by humans in switching various signals and lights. HOLON argues that an ADS does not need manual devices for signals and lights to function properly, and the HOLON Bus's ADS is capable of activation and control of all lighting and signals through other means.

• FMVSS No. 111 contains requirements for outside mirrors on buses. HOLON states that the HOLON Bus's ADS has a 360-degree view of surroundings and therefore provides clear and reasonably unobstructed view to the rear. When operated in limited manual mode, the certified operator is provided with a camera view that provides an equivalent field of view to that of outside mirrors.

Finally, HOLON petitions for exemption from one portion of one of NHTSA's crashworthiness FMVSS: FMVSS No. 208, “Occupant Crash Protection.” S4.4.4.1 of FMVSS No. 208 contains two options for meeting occupant crash protection requirements for buses with a gross vehicle weight rating of more than 4,526 kg (10,000 lb.) but not greater than 11,793 kg (26,000 lb.). One option requires a complete passenger protection system in the driver's seating position only. The other option provides seat belt requirements at the driver's designated seating position and all designated seating positions in the front row of seats in a bus. HOLON argues that the HOLON Bus cannot meet requirements related to a driver's designated seating position because it does not have a driver's designated seating position and proposes to interpret the forward-facing seats in its campfire seating configuration as the conventional front row of seats referenced in in the second option in the standard.

NHTSA requests comment on the strength and persuasiveness of these arguments and the support for each provided by HOLON.

C. HOLON's Public Interest Argument

HOLON argues that granting its petition for exemption for the HOLON Bus furthers the Safety Act's objectives and advances other public interests, including:

1. Saving lives and protecting vulnerable road users

2. Creating jobs and developing the public transit workforce

3. Reducing greenhouse gas emissions

4. Reducing traffic congestion

5. Accelerating equitable economic development

6. Promoting inclusivity, accessibility, and freedom of mobility

7. Supporting flexible and more equitable mobility planning

NHTSA requests comment on the strength and persuasiveness of these arguments and the support for each provided by HOLON.

IV. Agency's Review of HOLON's Petition

NHTSA has not yet made any judgment on the merits of HOLON's petition, the adequacy of the information submitted, or the safety of the HOLON Bus. NHTSA will assess the merits of the petition and consider public comments on the petition, as well as any additional information that the agency receives from HOLON. NHTSA is placing a non-confidential copy of the petition in the docket in accordance with statutory and administrative provisions.

V. Public Interest Considerations

NHTSA is seeking comment on the agency's consideration of specific matters of public interest in both deciding whether granting the exemption is consistent with the public interest and in developing terms and conditions with which the petitioner must comply if its petition is granted. Section 30113 authorizes NHTSA to grant exemptions that are consistent with the public interest and the Safety Act and authorizes NHTSA to apply appropriate terms to any such grant. Whether granting the exemption is consistent with the public interest and the objectives of the Safety Act are required findings that are no less critical than a discussion of the particular statutory basis on which the exemption is sought (e.g., whether the subject vehicle provides an equivalent level of safety to a nonexempt vehicle). Although NHTSA's mission is primarily a safety mission, NHTSA's authority under section 30113 requires the agency to extend its consideration to issues beyond traffic safety.¹¹

¹¹ NHTSA stated, in the notice granting Nuro the first exemption for an ADS-equipped vehicle, that the broad authority to determine whether the public interest and general goals of the Vehicle Safety Act will be served by granting the exemption allows the Secretary to consider many diverse effects of the exemption, including: The overall safety of the transportation system beyond the analysis required in the safety determination; how an exemption will further technological innovation; economic impacts, such as consumer benefits; and environmental effects. 85 FR 7826, 7828 (Feb. 11, 2020).

As the Federal regulatory agency governing automotive safety in the U.S. and the interpretation of its existing standards, NHTSA has significant discretion in making the safety findings required under these provisions. Further, the broad authority to determine whether the public interest and general goals of the Safety Act will be served by granting the exemption allows the agency to consider many diverse effects of the temporary exemption.

ADS-equipped vehicles have the potential to benefit our transportation system significantly beyond the analysis required in the safety determination. As NHTSA considers the potentially transformative impact of ADS technology, it is also considering its role in encouraging the use of ADS-equipped vehicles in ways that maximize their benefit to society. NHTSA will also continue to consider how exemptions affect the development of advanced vehicle technologies.

NHTSA seeks comments on whether the agency should consider additional matters of public interest in developing terms and conditions with which a part 555 petitioner must comply if its petition were granted. NHTSA is seeking comment on whether other areas of public interest should be considered, and how the agency can best promote the public interest through the exercise of our discretion in granting exemptions and establishing terms and conditions to such exemptions.

VI. Statement on Terms

Section 30113 authorizes the Secretary, NHTSA by delegation, to condition the grant of a temporary exemption “on terms [NHTSA] considers appropriate.” ¹² The agency's authority to set terms is broad. It is not limited solely to terms and conditions relevant to its specific determination. Instead, this provision allows the agency to set terms that would allow NHTSA to collect information about the exempted vehicles that would service the public interest, such as information concerning the safety performance of the ADS.¹³

¹² 49 U.S.C. 30113(b)(1) (delegation of authority at 49 CFR 1.95).

¹³ 85 FR 7826, 7840 (Feb. 11, 2020).

If a manufacturer receives a temporary exemption, NHTSA can issue terms that can limit or change the permitted use of those vehicles produced pursuant to the exemption. NHTSA may also effectively limit the use of the exempted vehicles as it exercises its enforcement authority (e.g., its safety defect authority). The agency would carefully consider whether and what terms to establish if it were to grant a temporary exemption. The manufacturer would need to agree to abide by the terms set for that exemption before it may begin and continue producing vehicles pursuant to that temporary exemption.

Due to the novel nature of ADS technology and NHTSA's interest in better understanding the safety and utility of ADS-equipped vehicles, if the petition were granted in whole or in part, the agency anticipates applying conditions to the grant.

NHTSA exercised its authority to apply a variety of terms when it granted Nuro's petition for the first ADS-equipped vehicle exempted under part 555.¹⁴ The terms NHTSA chose were designed to enhance the public interest and included post-crash reporting, periodic reporting, terms concerning cybersecurity, and certain general requirements.

¹⁴ Id.

If HOLON's petition is granted, HOLON will need to agree to abide by the terms set for that temporary exemption before it may begin and continue producing vehicles pursuant to that temporary exemption. Nothing in either the statute or implementing regulations limits the application of these terms to the period during which the exempted vehicles are produced. NHTSA could set terms that continue to apply to the vehicles throughout their normal service life if it determines that doing so is necessary to be consistent with the Safety Act.

Thus, if NHTSA grants a temporary exemption, it could establish, for example, reporting terms to ensure a continuing flow of information to the agency throughout the normal service life of the exempted vehicles, not just during the two-year period of exemption. Since only a portion of the total mileage that the vehicles, if exempted, could be expected to travel during their normal service life would have been driven by the end of the exemption period, the data would need to be reported over a longer period of time to enable the agency to make sufficiently reliable judgments. Such judgments might include those made in a retrospective review of the agency's determination about the anticipated safety effects of the exemption. For example, when NHTSA granted Nuro's exemption, NHTSA stated that the terms would apply throughout the useful life of the vehicles. Beyond the two-year exemption period, HOLON, like Nuro, could be subject to civil penalties for failure to comply with the terms established as a condition for granting the part 555 temporary exemption.

Other potential terms could include limitations on vehicle operations (based upon location, speed, weather, identified Operational Design Domains, road types, ownership, and management, etc.). Conceivably, some conditions could be graduated, i.e., restrictions could be progressively relaxed after a period of demonstrated driving performance. Further, as with data-sharing, it may be necessary to specify that these terms would apply to the exempted vehicles beyond the two-year exemption period.

NHTSA notes that its regulations at 49 CFR part 555 provide that the agency can revoke a part 555 exemption if a manufacturer fails to satisfy the terms of the exemption. NHTSA could also seek injunctive relief.¹⁵

¹⁵ 49 U.S.C. 30163(a).

NHTSA seeks comment on whether the agency should apply the same types of conditions that it applied to Nuro's exemption for ADS-equipped low-speed occupantless vehicles. NHTSA seeks comment not only on whether these conditions are appropriate to apply to HOLON's exemption, if granted, but also whether there are additional terms that NHTSA should apply. HOLON's exemption request differs significantly from Nuro's in that the request is for a passenger vehicle, and it is not limited to 25 mph, as was the case of the Nuro vehicle. As such, there are likely additional terms that would be appropriate to apply to HOLON's exemption, if granted.

VII. Public Participation

A. Request for Comment and Comment Period

The agency seeks comment from the public on the merits of HOLON's petition for a temporary exemption. NHTSA is also seeking comment on the potential types of terms the agency should set if the agency decides to grant the petition.

NHTSA is providing a 60-day comment period. After considering public comments and other available information, NHTSA will publish a notice of final action on the petition in the Federal Register.

B. Instructions for Submitting Comments

How long do I have to submit comments?

Please see DATES section at the beginning of this document.

How do I prepare and submit comments?

• Your comments must be written in English.

• To ensure that your comments are correctly filed in the Docket, please include the Docket Number shown at the beginning of this document in your comments.

• If you are submitting comments electronically as a PDF (Adobe) File, NHTSA asks that the documents be submitted using the Optical Character Recognition (OCR) process, thus allowing NHTSA to search and copy certain portions of your submissions. Comments may be submitted to the docket electronically by logging onto the Docket Management System website at http://www.regulations.gov. Follow the online instructions for submitting comments.

• You may also submit two copies of your comments, including the attachments, to Docket Management at the address given above under ADDRESSES.

Please note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html. DOT's guidelines may be accessed at http://www.bts.gov/programs/statistical_policy_and_research/data_quality_guidelines.

Will the Agency consider late comments?

We will consider all comments that Docket Management receives before the close of business on the comment closing date indicated above under DATES. To the extent possible, we will also consider comments that Docket Management receives after that date.

How can I read the comments submitted by other people?

You may see the comments on the internet. To read the comments on the internet, go to http://www.regulations.gov. Follow the online instructions for accessing the dockets.

Please note that, even after the comment closing date, we will continue to file relevant information in the Docket as it becomes available. Further, some people may submit late comments. Accordingly, we recommend that you periodically check the Docket for new material.

(Authority: 49 U.S.C. 30113 and 49 U.S.C. 30166; delegations of authority at 49 CFR 1.95 and 501.5.)

Issued in Washington, DC, under authority delegated in 49 CFR 1.95 and 501.5.
Sophie Shulman,
Deputy Administrator.

[FR Doc. 2024-25990 Filed 11-7-24; 8:45 am]

BILLING CODE 4910-59-P